DEPARTMENT OF JUSTICE

Antitrust Division

Notice Pursuant to the National Cooperative Research and Production Act of 1993—DSL Forum

Notice is hereby given that, on September 17, 2004, pursuant to Section 6(a) of the National Cooperative Research and Production Act of 1993, 15 U.S.C. 4301 et seq. (“the Act”), DSL Forum (“DSLF”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: DSL Forum, Fremont, CA. The nature and scope of DSLF's standards development activities are: To support the rapid advancement of end-end network systems employing DSL in a manner that promotes a competitive DSL marketplace. The Corporation's activities will include: Promoting global development of DSL systems technology; identifying global DSL applications and corresponding services; providing global educational services; promoting nationwide and worldwide compatibility and interoperability; encouraging input to appropriate national and international standards bodies; and identifying, selecting, augmenting as appropriate, and publishing DSL—centric equipment specifications drawn from appropriate national and international standards.

Dorothy B. Fountain,
Deputy Director of Operations, Antitrust Division.

[FR Doc. 04-24572 Filed 11-2-04; 8:45 am]

BILLING CODE 4410-11-M